DEPARTMENT OF AGRICULTURE

Forest Service

Kern and Tulare Counties Resource Advisory Committee

AGENCY: Forest Service, USDA.

ACTION: Call for proposals.

SUMMARY: The Kern and Tulare Counties Resource Advisory Committee (RAC) will be accepting applications for projects to recommend for funding under Title II of the Secure Rural Schools and Community Self-Determination Act (Pub. L. 110-343). The application can be downloaded from the Secure Rural Schools Web site: http://www.fs.fed.us/srs/index.shtml or the Sequoia National Forest Web site: http://www.fs.fed.us/r5/sequoia/projects/rural-schools/index.html. Completed applications can be submitted electronically, by mail, or in person. The committee is meeting as authorized under the Secure Rural Schools and Community Self-Determination Act (Pub. L. 110-343) and in compliance with the Federal Advisory Committee Act.

DATES: Applications will be accepted until September 16, 2010 by mail and in person at the meeting to be held September 23, 2010. Meetings will also be held September 29, October 28, and November 18, 2010. All meetings will begin at 5 p.m.

ADDRESSES: The September 29 and October 28 meetings will be held at the Sequoia National Forest Headquarters, 1839 South Newcomb Street, Porterville, California. The September 23 and November 18 meetings will be held at the County of Kern Administrative Office, 1115 Truxtun Avenue, Bakersfield, California.

Applications or written comments should be sent to Priscilla Summers, Western Divide Ranger District, 32588 Highway 190, Springville, California 93265. Application or comments may also be sent via e-mail to psummers@fs.fed.us, or via facsimile to 559-539-2067.

All comments, including names and addresses when provided, are placed in the record and are available for public inspection and copying. The public may inspect comments received at Western Divide Ranger District, 32588 Highway 190, Springville, CA 93265. Visitors are encouraged to call ahead to 559-539-2607 to facilitate entry into the building and access to the record.

FOR FURTHER INFORMATION CONTACT: Penelope Shibley, RAC Coordinator, Kernville Ranger Station, P.O. Box 9, Kernville, CA 93238; (760) 376-3781; or e-mail: pshibley@fs.fed.us.

Individuals who use telecommunication devices for the deaf (TDD) may call 559-781-6650 between 8 a.m. and 4:30 p.m., Pacific Daylight Time, Monday through Friday.

SUPPLEMENTARY INFORMATION: The meetings are open to the public. Committee discussions are limited to Forest Service staff and committee members. At the September 23 meeting, the following business will be conducted: (1) Introduction of all committee members, replacement members, and Forest Service personnel; (2) approve minutes of the last meeting; (3) accept and hear project proposals; and (4) receive public comment. At the September 29 meeting, the following business will be conducted: (1) Introductions of all committee members, replacement members, and Forest Service personnel; (2) approve minutes of the last meeting; (3) review and evaluate proposals; and (4) receive public comment. Persons who wish to bring related matters to the attention of the Committee may file written statements with the Committee staff before or after the meeting.

September 1, 2010.
Tina J. Terrell,
Forest Supervisor.

[FR Doc. 2010-22452 Filed 9-8-10; 8:45 am]

BILLING CODE 3410-11-P